DEPARTMENT OF ENERGY

Federal Energy Regulatory Commission

[Docket Nos. AD12-1-000, RC11-6-000, EL11-62-000]

Reliability Technical Conference, North American Electric Reliability Corporation, Public Service Commission of South Carolina and the South Carolina Office of Regulatory Staff; Notice of Amended Reliability Technical Conference Agenda

As announced in the Notice of Technical Conference issued on October 7, 2011, the Commission will hold a technical conference on Tuesday, November 29, 2011, from 1 p.m. to 5 p.m. and Wednesday, November 30, 2011, from 9 a.m. to 4 p.m. to explore the progress made on the priorities for addressing risks to reliability that were identified in earlier Commission technical conferences. The agenda for this conference has been amended and is attached. Commission members will participate in this conference.

Information on this event will be posted on the Calendar of Events on the Commission's Web site, http://www.ferc.gov, prior to the event. The conference will be transcribed. Transcripts will be available immediately for a fee from Ace Reporting Company (202) 347-3700 or 1-(800) 336-6646). A free webcast of this event is also available through http://www.ferc.gov. Anyone with Internet access who desires to listen to this event can do so by navigating to http://www.ferc.gov' s Calendar of Events and locating this event in the Calendar. The event will contain a link to the webcast. The Capitol Connection provides technical support for webcasts and offers the option of listening to the meeting via phone-bridge for a fee. If you have any questions, visit http://www.CapitolConnection.org or call (703) 993-3100.

Commission conferences are accessible under section 508 of the Rehabilitation Act of 1973. For accessibility accommodations, please send an email to accessibility@ferc.gov or call toll free 1-(866) 208-3372 (voice) or (202) 208-1659 (TTY), or send a FAX to (202) 208-2106 with the required accommodations.

For more information about this conference, please contact: Sarah McKinley, Office of External Affairs, Federal Energy Regulatory Commission, 888 First Street NE., Washington, DC 20426. (202) 502-8368. sarah.mckinley@ferc.gov.

Dated: November 22, 2011.
Kimberly D. Bose,
Secretary.

Reliability Technical Conference

Commissioner-Led Reliability Technical Conference

November 29, 2011

1 p.m.-5 p.m.

November 30, 2011

9 a.m.-4 p.m.

Agenda

November 29, 2011

1 p.m. Commissioners' Opening Remarks

1:20 p.m. Introductions Commissioner Cheryl LaFleur, Chair

1:25 p.m. Panel I: Identifying Priorities for NERC Activities

Presentations: NERC will be invited to provide an update on its priorities as identified in the February 8, 2011 Reliability Technical Conference. Panelists will be invited to express their general views on how NERC's prioritization tool has been working. Has NERC addressed concerns raised at the February 8, 2011 Reliability Technical Conference. Panelists will be asked to address some or all of the following:

a. What are the most critical reliability issues and/or standards development initiatives that needed to be addressed in 2011 and 2012? What is the status of the priorities identified by NERC at the February technical conference? Has NERC's prioritization tool been useful?

b. One of the priorities was improving the compliance and enforcement process. How is that being addressed?

c. What are the biggest challenges to addressing these priorities and/or completing these initiatives in an effective and timely manner? What next steps are appropriate to timely and effectively address the priorities discussed?

d. How do NERC and reliability standards development teams incorporate in new or re-ordered priorities regarding reliability standards into their work plans? How are emerging issues considered and are any becoming high priorities?

Panelists

• Gerry W. Cauley, President and Chief Executive Officer, North American Electric Reliability Corporation (NERC)

• Kevin Burke, Chairman, President and CEO, Consolidated Edison Inc., on behalf of Consolidated Edison and the Edison Electric Institute (EEI)

• Mike Smith, President and Chief Executive Officer, Georgia Transmission Corporation, on behalf of Georgia Transmission Corp. and the National Rural Electric Association (NRECA)

• John A. Anderson, President, Electricity Consumers Resource Council (ELCON)

• Allen Mosher, Senior Director of Policy Analysis and Reliability, American Public Power Association (APPA); NERC Standards Committee Chairman

• Deborah Le Vine, Director, System Operations, California Independent System Operator Corporation (CAISO)

• William J. Gallagher, NERC Member Representatives Committee Chairman; Retired CEO, Vermont Public Power Supply Authority

• Peter Fraser, Managing Director of Regulatory Policy, Ontario Energy Board

3:30 p.m. Panel II: Incorporating Lessons Learned Into a More Reliable Grid

Presentations: Panelists will address how lessons learned are incorporated into NERC priorities. Panelists will be asked to address some or all of the following:

a. How do lessons learned from events analysis get disseminated to industry?

b. How do NERC's non-standards processes such as the Industry Alerts, Recommendations, Event Analysis, Essential Actions, Lessons Learned and Compliance Application Notices interact with the reliability standards? To what extent do these processes aid in identifying important reliability matters that are not addressed under the existing Reliability Standards?

c. Is the alerts process getting the message out on issues of immediate importance

d. How do you gauge whether industry is appropriately implementing NERC alerts or lessons learned from an event analysis?

e. Is there a feedback loop into the Reliability Standards development process to determine if there is a gap in the standards? If so, how has that been working? If not, should there be?

Panelists

• Gerry W. Cauley, President and Chief Executive Officer, North American Electric Reliability Corporation

• Thomas J. Galloway, President and Chief Executive Officer, North American Transmission Forum

• Tom Burgess, Executive Director, Integrated System Planning and Development, FirstEnergy, on behalf of FirstEnergy and EEI

• Scott Helyer, Vice President, Transmission at Tenaska, on behalf of Electric Power Supply Association (EPSA)

• Mary Kipp, Senior Vice President, General Counsel and Chief Compliance Officer, El Paso Electric

Commissioner Closing Comments

November 30, 2011

9 a.m. Commissioners' Opening Remarks

9:20 a.m. Introductions Commissioner Cheryl LaFleur, Chair

9: 30 Remarks: Janet McCabe, Principal Deputy Assistant Administrator for Air and Radiation, U.S. Environmental Protection Agency

9:40 a.m. Panel III: Presentations and Discussion on the Current State of Processes for Identifying Unit-Specific Local or Regional Reliability Issues in Response to Final EPA Regulations

Presentations: Panelists will be asked to describe their local and regional processes for identifying unit-specific reliability issues in response to final EPA environmental requirements. Panelists should address the following broad questions in their presentations:

a. How should reliability aspects of EPA's proposed and final regulations be addressed? What local or regional processes are used to plan for emerging issues such as the EPA regulations? How are you incorporating the EPA regulations into this process?

b. What have you proposed to the EPA regarding an exemption process? Do you support the exemption process changes identified by the RTOs or other entities in comments to the EPA? Do you have any alternative proposals?

c. What market structures and tariff rules are used to address local and regional reliability issues that may arise from generation retirements potentially triggered by EPA regulations? Are any changes to market and tariff rules needed?

d. Do you have the right tools to identify any problems that may arise? Are there other process changes that could help address reliability-related requests for exemptions from the EPA regulations?

Panelists

• Mark Lauby, Vice President and Director of Reliability Assessment and Performance Analysis, North American Electric Reliability Corporation

• Michael Kormos, Senior Vice President of Operations, PJM Interconnection, L.L.C.

• Carl Monroe, Executive Vice President and Chief Operating Officer, Southwest Power Pool (SPP)

• Thomas F. Farrell II, Chairman, President & CEO—Dominion, on behalf of EEI

• Kathleen Barron, Vice President, Federal Regulatory Affairs and Policy, Exelon Corporation

• Anthony Topazi, Chief Operating Officer, Southern Company

• David Wright, Vice Chairman, South Carolina Public Service Commission

• Joshua Epel, Chairman, Colorado Public Utilities Commission

12 p.m. Lunch

12:45 p.m. Continuation of Panel III

Discussion with Commissioners: Open dialogue and questions and answers between Panel 1 and Commissioners.

2:15 p.m. Break

2:30 p.m. Panel IV: Discussion on multi-jurisdictional processes.

Presentations: Panelists will be asked to describe how they coordinate processes such as the state integrated resource planning with their reliability planning and the safety valve proposal. Panelists should address the following broad questions in their presentations:

a. What, if any role should the Commission or DOE play in studying replacement generation or other reliability solutions due to retirements? What role does the retail regulator, such as a state public utility commission or municipal authority play in forming your bulk power system reliability plans?

b. Do you support the exemption process changes identified by the RTOs or other entities in comments to the EPA? What role can the Commission play in evaluating individual requests under a safety-valve approach? Do you have any alternative proposals?

Panelists

• Patricia A. Hoffman, Assistant Secretary for Electricity & Infrastructure Reliability, U.S. Department of Energy

• Gerry W. Cauley, President and Chief Executive Officer, North American Electric Reliability Corporation (NERC)

• Nick Akins, CEO of American Electric Power (AEP), on behalf of AEP

• Clair J. Moeller, Vice President Transmission Asset Management, Midwest Independent Transmission System Operator, Inc. (MISO)

• Betty Ann Kane, Chairman, District of Columbia Public Service Commission

• Cheryl Roberto, Commissioner, Public Utilities Commission of Ohio

• Eric Baker, President and Chief Executive Officer, Wolverine Electric Power Cooperative

• Debra Raggio, Vice President, Government and Regulatory Affairs, Assistant General Counsel, GenOn Energy, Inc.

Commissioner Closing Comments

[FR Doc. 2011-30671 Filed 11-28-11; 8:45 am]

BILLING CODE 6717-01-P